DEPARTMENT OF TRANSPORTATION

Federal Railroad Administration

[Docket Number FRA-2004-20000]

Petition for Waiver of Compliance

In accordance with Part 211 of Title 49 Code of Federal Regulations (CFR), this document provides the public notice that by a document dated September 17, 2014, Dallas Area Rapid Transit (DART) has petitioned the Federal Railroad Administration (FRA) for a waiver of compliance from certain provisions of the Federal railroad safety regulations contained at 49 CFR part 229-Railroad Locomotive Safety Standards and Part 234-Grade Crossing Safety, Including Signal Systems, State Action Plans, and Emergency Notification Systems. FRA assigned the petition Docket Number FRA-2004-20000.

DART, located in Dallas, TX, seeks an extension of its waiver of compliance from certain regulations for continued operation of its rail-fixed guide way public transit lines that share a “limited connection” with the general railroad system, specifically with the Dallas Garland and Northeastern Railroad (DGNO). This request is consistent with the requirements set forth in the Statement of Agency Policy Concerning Jurisdiction Over the Safety of Railroad Passenger Operations and Waivers Related to Shared Use of the Tracks of the General Railroad System by Light Rail and Conventional Equipment, 65 FR 42529 (July 10, 2000); see also Joint Statement of Agency Policy Concerning Shared Use of the Tracks of the General Railroad System by Conventional Railroads and Light Rail Transit Systems, 65 FR 42626 (July 10, 2000).

DART is expanding its light rail operations, and will double in size to 93 miles. To date, the final 2.6 miles of expanded service are scheduled for completion in 2016. Expansion includes various lines that feature some shared corridor operations with DGNO, with up to 50 or more total limited connections at shared highway-rail grade crossings.

Therefore, DART is seeking an extension of the terms and conditions of its current waiver of compliance from the provisions of 49 CFR 229.125-Headlights and auxiliary lights and 49 CFR 234.105-Activation failure. DART claims that no modifications or changes have occurred since the first waiver was granted on May 2, 2005, and extended for 5 years in April 2010. DART also states in its petition that “since 2010, there is no record of any accidents or safety-related incidents that occurred in these shared corridor portions covered by the regulations where these waivers are being requested.”

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2004-20000) and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal holidays.

Communications received within 45 days of the date of this notice will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov or interested parties may review DOT's complete Privacy Act Statement in the Federal Register published on April 11, 2000 (65 FR 19477).

Issued in Washington, DC, on January 28, 2015.
Ron Hynes,
Director, Office of Technical Oversight.

[FR Doc. 2015-02159 Filed 2-3-15; 8:45 am]

BILLING CODE 4910-06-P